DEPARTMENT OF COMMERCE

National Oceanic and Atmospheric Administration

Agency Information Collection Activities; Submission to the Office of Management and Budget (OMB) for Review and Approval; Comment Request; Nautical Discrepancy and Data Reporting System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 23, 2022 (87 FR 16462) during a 60-day comment period. This notice allows for an additional 30 days for public comments.

Agency: National Oceanic and Atmospheric Administration, Commerce.

Title: Nautical Discrepancy and Data Reporting System.

OMB Control Number: 0648-0007.

Form Number(s): None.

Type of Request: Regular submission [Revision and extension of a currently approved information collection].

Number of Respondents: 1,575.

Average Hours per Response: 10-15 minutes, depending on the report.

Total Annual Burden Hours: 791.5

Needs and Uses: This request is for a revision and extension of a currently approved information collection.

NOAA's Office of Coast Survey (Coast Survey) is the nation's nautical chartmaker, maintaining and updating over a thousand charts covering the 3.5 million square nautical miles of coastal waters in the U.S. Exclusive Economic Zone and the Great Lakes. The marine transportation system relies on charting accuracy and precision to keep navigation safe and coastal communities protected from environmental disasters at sea.

Coast Survey also writes and publishes the United States Coast Pilot® (Coast Pilot), a series of ten nautical books that supplement nautical charts with essential marine information that cannot be shown graphically on the charts and are not readily available elsewhere. Subjects include, but are not limited to, channel descriptions, anchorages, bridge and cable clearances, tides and tidal currents, prominent features, pilotage, towage, weather, ice conditions, wharf descriptions, dangers, routes, traffic separation schemes, small craft facilities and Federal Regulations applicable to navigation.

The marine environment and shorelines are constantly changing. NOAA makes every effort to update information portrayed in charts and described in the Coast Pilot. Sources of information include, but are not limited to: pilot associations, shipping companies, towboat operators, state marine authorities, city marine authorities, local port authorities, marine operators, hydrographic research vessels, naval vessels, Coast Guard cutters, merchant vessels, fishing vessels, pleasure boats, U.S. Power Squadron Units, U.S. Coast Guard Auxiliary Units, and the U.S. Army Corps of Engineers (USACE).

The purpose of NOAA's Nautical Discrepancy and Data Reporting System is to offer formal, standardized instruments for recommending changes, corrections, and updates to nautical charts and the Coast Pilot, and to monitor and document the accepted changes. Coast Survey solicits information through the Aimed Stakeholder Interaction and Survey Tool (ASSIST) (https://www.nauticalcharts.noaa.gov/customer-service/assist/).

This collection also includes a Citizen Science component, which allows boating groups or individuals to submit reports to update the charts. The Citizen Science component to the collection benefits Coast Survey by allowing the public to “adopt” a product or part of a product and provide annual data updates that directly affect that product or products. Data obtained through Citizen Science reports may be used to update certain U.S. nautical charts and the Coast Pilot.

The Nautical Data Branch (NDB) receives numerous potential construction notifications in the form of USACE-issued Public Notices, Permit Applications, and Permits, which could include a proposal or authorization to dredge and/or construct, remove, or abandon structures. NDB vets these Public Notices, Permit Applications, or Permits for the potential of a charting action and registers them into a database. To facilitate the ability of NDB to learn the status of USACE-permitted projects and to obtain as-built and/or survey data associated with the completion of these projects, Coast Survey is proposing to add three Project Status Report Forms to the collection. The solicitation forms, titled Permit/Public Notice Status Report, Artificial Reef/Mariculture Status Report, and Submerged Pipeline Status Report Form, provide a standardized method for reporting project statuses to the Nautical Data Branch and provide special instructions regarding the submission of digital as-builts and/or survey data. Upon receipt of the forms, NDB may register the forms, along with the USACE Permit and any as-built data, into the Marine Chart Division's (MCD) internal database in support of potential updates to the applicable NOAA nautical chart(s).

These forms provide an effective way for permittees to notify MCD of the status of their permitted projects and help MCD garner pertinent data necessary for chart application. This mode of data delivery facilitates the ability of NDB to capture complete, more efficient, registration-ready source packages that require less frequent correspondence with the permittee prior to source registration. This process is instrumental in accelerating the availability of important, and/or possibly critical, nautical data to the cartographic production branches for charting action.

The title of this collection is also being updated from Nautical Discrepancy Reporting System to Nautical Discrepancy and Data Reporting System.

Affected Public: Business or other for-profit; state, local, and tribal government; universities; individuals or households; not for-profit institutions, professional and other mariners, etc.

Frequency: On occasion.

Respondent's Obligation: Voluntary.

Legal Authority: None.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0007.

Sheleen Dumas,
Department PRA Clearance Officer, Office of the Chief Information Officer, Commerce Department.

[FR Doc. 2022-15343 Filed 7-18-22; 8:45 am]

BILLING CODE 3510-JE-P